DEPARTMENT OF HEALTH AND HUMAN SERVICES

National Institutes of Health

National Institute of Child Health and Human Development; Notice of Meetings

Pursuant to section 10(a) of the Federal Advisory Committee Act, as amended (5 U.S.C. Appendix 2), notice is hereby given of meetings of the National Children's Study Advisory Committee.

The meetings will be open to the public, with attendance limited to space available. Individuals who plan to attend and need special assistance, such as sign language interpretation or other reasonable accommodations, should notify the Contact Person listed below in advance of the meeting.

Name of Committee: National Children's Study Advisory Committee; Community Outreach and Engagement Subcommittee.

Date: March 25, 2008.

Time: 2 p.m. to 5 p.m.

Agenda: The agenda items will include continued discussions on community representation and community engagement. For questions or to register call Circle Solutions at (703) 902-1339 or via e-mail ncs@circlesolutions.com. Registration deadline is noon on January 29, 2008. Public observers must attend in person at 6100 Executive Blvd, Room 7B01.

Place: National Institutes of Health, 6100 Executive Boulevard, Rockville, MD 20852 (Telephone Conference Call).

Contact Person: Jessica Sapienza, Committee Liaison Officer, National Children's Study, Division of Epidemiology, Statistics, and Prevention Research, NICHD, NIH, 6100 Executive Blvd., Room 5C01, Bethesda, MD 20892, (703) 902-1339, ncsinfo@mail.nih.gov.

Name of Committee: National Children's Study Advisory Committee; Ethics Subcommittee.

Date: March 26, 2008.

Time: 1 p.m. to 3 p.m.

Agenda: The agenda items will include continued discussions on revealing findings and data access. For questions or to register call Circle Solutions at (703) 902-1339.

Place: National Institutes of Health, 6100 Executive Boulevard, Rockville, MD 20852 (Telephone Conference Call).

Contact Person: Jessica Sapienza, Committee Liaison Officer, National Children's Study, Division of Epidemiology Statistics, and Prevention Research, NICHD, NIH, 6100 Executive Blvd., Room 5C01, Bethesda, MD 20892, (703) 902-1339 ncsinfo@mail.nih.gov.

This meeting is being published less than 15 days prior to the meeting due to timing limitations imposed by administrative matters.

Any interested person may file written comments with the committee by forwarding the statement to the Contact Person listed on this notice. The statement should include the name, address, telephone number and when applicable, the business or professional affiliation of the interested person.

(Catalogue of Federal Domestic Assistance Program Nos. 93.864, Population Research; 93.865, Research for Mothers and Children; 93.929, Center for Medical Rehabilitation Research; 93.209; Contraception and Infertility Loan Repayment Program, National Institutes of Health, HHS)
Dated: February 28, 2008.
Jennifer Spaeth,
Director, Office of Federal Advisory Committee Policy.

[FR Doc. 08-959 Filed 3-5-08 8:45 am]

BILLING CODE 4140-01-M